DEPARTMENT OF ENERGY

Federal Energy Regulatory Commission

[Project No. 77-313]

Pacific Gas and Electric Company; Notice of Application Accepted for Filing and Soliciting Comments, Motions To Intervene, and Protests

Take notice that the following hydroelectric application has been filed with the Commission and is available for public inspection:

a. Application Type: Application for Temporary Variance of Flow Requirements.

b. Project No: 77-313.

c. Date Filed: May 23, 2023.

d. Applicant: Pacific Gas and Electric Company (licensee).

e. Name of Project: Potter Valley Hydroelectric Project.

f. Location: The project is located on the Eel River and East Fork of the Russian River in Lake and Mendocino counties, California.

g. Filed Pursuant to: Federal Power Act, 16 U.S.C. 791a—825r.

h. Applicant Contact: Jackie Pope, License Coordinator; Pacific Gas and Electric Company; Mail Code N11D, P.O. Box 770000, San Francisco, CA 94177; Phone: (530) 245-4007.

i. FERC Contact: Alicia Burtner, (202) 502-8038, Alicia.Burtner@ferc.gov.

j. Deadline for filing comments, motions to intervene, and protests: August 4, 2023.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number P-77-313. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The licensee requests a temporary variance of its minimum flow requirements in the East Fork of the Russian River. Due to seismic risk at Scott Dam, the licensee does not intend to close the dam's gates, reducing the storage capacity in Lake Pillsbury by approximately 20,000 acre-feet. The licensee proposes to reclassify the water year type to reduce flow releases to Eel River below Scott Dam from the current normal water year requirement of 60 cfs to a critical water year flow floor set by the minimum opening of the low-level outlet of approximately 20 cubic feet per second (cfs). Minimum flows into the Eel River below Cape Horn Dam would be 15 cfs, consistent with a wet water year classification. Minimum flow releases to the East Fork of the Russian River would be reduced from normal water year requirements of 75 cfs to 25 cfs, as required during a dry water year, but the proposed variance includes the flexibility to adjust these flows to critically dry year releases of 5 cfs if daily average Lake Pillsbury release water temperatures at gage E-2 exceed 16 degrees Celsius or as needed to maintain the reservoir elevation for facility safety. The licensee additionally requests that compliance with flow requirements to the Eel River below Cape Horn Dam be measured as a 24-hour average versus instantaneously to allow for a tighter compliance buffer. The request includes provisions for water temperature monitoring and monthly consultation throughout implementation of the proposed variance. The licensee requests that the variance would begin immediately upon Commission approval and conclude when Lake Pillsbury storage exceeds 36,000 acre-feet following October 1, 2022 or is superseded by another variance. The licensee states it is also developing a proposal for Commission approval, for a long-term flow regime to assure compliance of environmental requirements with the spill gates remaining open.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 5, 2023.
Kimberly D. Bose,
Secretary.

[FR Doc. 2023-14609 Filed 7-10-23; 8:45 am]

BILLING CODE 6717-01-P